ELECTION ASSISTANCE COMMISSION

Introduction and Foundation of VVSG 2.0 Requirements; Correction

AGENCY: U.S. Election Assistance Commission.

ACTION: Notice; corrections.

SUMMARY: The U.S. Election Assistance Commission published a document in the Federal Register on March 25, 2020, Public Hearing: Introduction and Foundation of VVSG 2.0 Requirements.

Correction

In the Federal Register on March 25, 2020, in FR Doc. 2020-06252, on page 16934 in the second column, correct the Supplementary Information to read:

SUPPLEMENTARY INFORMATION:

Agenda

Commissioners will hold a hearing to discuss the proposed Voluntary Voting System Guidelines (VVSG) 2.0 Requirements as submitted by the Technical Guidelines Development Committee (TGDC). The VVSG 2.0 Requirements are currently published for a 90-day public comment period. Commissioners will hear from a panel of experts who will provide an introduction to the VVSG process as well a high-level overview of the proposed VVSG 2.0 requirements. Commissioners will also hear from members of the public who wish to offer verbal testimony on the VVSG 2.0 requirements. Public testimony during the hearing will be limited to 3-5 minutes maximum per person. If you would like to participate in public testimony, please contact Jerome Lovato (jlovato@eac.gov) with your full name and phone number no later than 9:50 a.m. Eastern Time on March 27, 2020. For dial-in users, you will be identified by your area code and the last three digits of your phone number, so please provide the phone number that you will use during the hearing.

The TGDC unanimously approved to recommend VVSG 2.0 Requirements on February 7, 2020, and sent the Requirements to the EAC Acting Executive Director via the Director of the National Institute of Standards and Technology (NIST), in the capacity of the Chair of the TGDC on March 9, 2020. Upon adoption, the VVSG 2.0 would become the fifth iteration of national level voting system standards. The Federal Election Commission published the first two sets of federal standards in 1990 and 2002. The EAC then adopted Version 1.0 of the VVSG on December 13, 2005. In an effort to update and improve version 1.0 of the VVSG, on March 31, 2015, the EAC commissioners unanimously approved VVSG 1.1.

FOR FURTHER INFORMATION CONTACT: Jerome Lovato, Telephone: (301) 960-1216, Email: jlovato@eac.gov.

Amanda Joiner,
Associate Counsel, U.S. Election Assistance Commission.

[FR Doc. 2020-06523 Filed 3-27-20; 8:45 am]

BILLING CODE P